OFFICE OF PERSONNEL MANAGEMENT

Federal Prevailing Rate Advisory Committee; Open Committee Meetings; Correction

AGENCY: U.S. Office of Personnel Management.

ACTION: Notice, correction.

SUMMARY: The U.S. Office of Personnel Management (OPM) published a notice in the Federal Register on December 8, 2014, (79 FR 72714) announcing the 2015 meeting dates of the Federal Prevailing Rate Advisory Committee. The notice incorrectly listed the year of the meetings. This document corrects this error.

FOR FURTHER INFORMATION CONTACT: Madeline Gonzalez, by telephone at (202) 606-2858 or by email at pay-leave-policy@opm.gov.

Correction: The correct dates are as follows:

Thursday, January 15, 2015

Thursday, February 19, 2015

Thursday, March 19, 2015

Thursday, April 16, 2015

Thursday, May 21, 2015

Thursday, June 18, 2015

Thursday, July 16, 2015

Thursday, August 20, 2015

Thursday, September 17, 2015

Thursday October 15, 2015

Thursday, November 19, 2015

Thursday, December 17, 2015

U.S. Office of Personnel Management.
Sheldon Friedman,
Chairman, Federal Prevailing Rate Advisory Committee.

[FR Doc. 2014-29447 Filed 12-16-14; 8:45 am]

BILLING CODE 6325-49-P